DEFENSE NUCLEAR FACILITIES SAFETY BOARD

Guidelines for Ensuring and Maximizing the Quality, Objectivity, Utility, and Integrity of Disseminated Information

AGENCY: Defense Nuclear Facilities Safety Board.

ACTION: Notice; request for comment.

SUMMARY: The Defense Nuclear Facilities Safety Board (DNFSB or Board) implements these Guidelines pursuant to section 515 of the Treasury and General Government Appropriations Act for Fiscal Year 2001, Pub. L. 106-554, and government-wide Guidelines issued by the Office of Management and Budget (OMB), OMB Guidelines for Ensuring and Maximizing the Quality, Objectivity, Utility, and Integrity of Information Disseminated by Federal Agencies, 67 FR 8452 (Feb. 22, 2002) (OMB Guidelines). The purpose is to ensure and maximize the quality, objectivity, utility, and integrity of information, including statistical information, disseminated by Federal agencies that are subject to the Paperwork Reduction Act, 44 U.S.C. 3502(1).

As is the intent of OMB's Guidelines, DNFSB's Guidelines will focus primarily on the dissemination of substantive information rather than information pertaining to basic agency operations. The Guidelines also apply to information other parties provide to the Board, if the other parties seek to have the Board rely upon or disseminate this information or if the Board decides to rely upon or disseminate the information.

These Guidelines are suggestions, recommendations, and policy views of the DNFSB. They are not intended to be, and should not be construed as, legally binding regulations or mandates. They do not create any right or benefit, substantive or procedural, enforceable at law or equity, by any party against the United States, its agencies (including the Board or DNFSB), officers, or employees, or any person.

DATES: Comments are due by close of business October 17, 2002.

ADDRESSES: Comments should be sent to Joseph Neubeiser, Chief Information Officer, Defense Nuclear Facilities Safety Board, 625 Indiana Avenue, NW., Suite 700, Washington, DC 20004-2901. Send e-mail to MAILBOX@DNFSB.gov. The Board will publish its information quality standards on its Web site: www.dnfsb.gov.

FOR FURTHER INFORMATION CONTACT: Joseph Neubeiser, Chief Information Officer, or Richard A. Azzaro, General Counsel, Defense Nuclear Facilities Safety Board, 625 Indiana Avenue, NW., Suite 700, Washington, DC 20004-2901, (202) 694-7000.

SUPPLEMENTARY INFORMATION:

Table of Contents

I. Definitions

II. Information Quality Principles

III. The Board's Role in Public Information Dissemination

IV. The Board's Commitment to Quality Information Dissemination

V. Pre-Dissemination Information Quality Review

VI. Development of Quality Information and Data

VII. Transparency of Underlying Data and Methods

VIII. Integrity of Board Information and Data

IX. Documentation

X. Administrative Mechanism for Seeking Correction of Information

XI. Compliance, Reporting, and Effective Date

Appendix A. Section 515 Administrative Correction Mechanism

I. Definitions

The definitions set forth below are consistent with the definitions provided in the OMB Guidelines. Unless otherwise stated, information dissemination outside the scope of these definitions is not subject to these Guidelines.

A. “Information” means any communication or representation of knowledge such as facts or data, not opinion, in any medium or form. Information includes textual, numerical, graphic, cartographic, narrative, or audiovisual forms. This definition also includes information that the Board disseminates from its Web page, but does not include the provision of hyperlinks to information that others disseminate. This definition does not include Board opinions or conclusions. This definition also does not include information that the Board has indicated is someone's individual opinion.

B. “Dissemination” means agency initiated or sponsored distribution of information intended for the public; excluding:

1. Information not intended for public dissemination;

2. Distribution intended only for government employees or contractors;

3. Procedural, operational, policy, and internal documents prepared for the management and operations of the Board that are not primarily intended for public dissemination;

4. Information designated as “Classified,” “Unclassified Controlled Nuclear Information,” or “Official Use Only”;

5. Outdated or superseded information;

6. Government information intended for intra- or inter-agency use or sharing;

7. Information items intended for inter-agency transmittals or congressional compliance and provided to members of the public as a courtesy (e.g., weekly site representative reports, technical reports, letters);

8. Responses to requests for agency records under the Freedom of Information Act, the Privacy Act, the Federal Advisory Committee Act or other similar law;

9. Other correspondence with individuals or persons not intended for public dissemination, including, but not limited to, written agreements with particular entities or parties, responses to specific requests for advisory opinions or other advice;

10. Press releases, fact sheets, press conferences or similar communications in any medium that announce, support the announcement, or give public notice of information the Board has disseminated elsewhere;

11. Archival records (e.g., library materials);

12. Public filings, including, but not limited to, submissions in rulemakings or other Board proceedings or matters, requests, petitions, applications, supporting materials, etc. The Guidelines do not apply when the Board distributes this information simply to provide the public with quicker and easier access to materials submitted to the Board that are publicly available. This will generally be the case if the Board has not authored the filings, is not distributing the information in a manner that suggests that the Board endorses or adopts the information, and does not indicate in its distribution that it is using or proposing the use of the information to formulate or support a regulation, guidance, or other Board decision or position;

13. Opinions presented to Congress in response to Congressional requests or statutes and not intended for dissemination to the public;

14. Subpoenas or discovery orders issued in proceedings or court litigation, Orders, opinions, amicus, and other briefs.

Adjudicative processes also include factual allegations by the staff during the investigative and litigative phases of cases brought by or participated in by the Board. Because there are well-established procedural safeguards and rights to address the quality of factual allegations and adjudicatory decisions, and to provide persons with an opportunity to contest decisions, these Guidelines do not impose any additional requirements on the Board during adjudicative proceedings and do not provide parties to such proceedings any additional rights of challenge or appeal;

15. Legally required disclosures, notices, or other information disseminated by persons or entities other than the Board, where the text of such disclosures, notices, or information is not explicitly prescribed or specified by the Board itself; and

16. Studies, statements, other issuances, or publications by Board employees, officials, contractors, consultants, or others who may be or have been paid, employed, or retained by the Board, where the issuance or publication is not represented as being an official position of the Board or used by the Board in support of its official position. Conversely, if the Board has directed a third party to disseminate information or retains the authority to review and approve the information upon release, then the Board has sponsored the dissemination of the information and the information may be considered a Board dissemination.

C. “Information dissemination product” means any book, paper, map, machine-readable material, audiovisual production, or other documentary material, regardless of physical form or characteristic, the agency disseminates to the public. This definition includes any electronic document, storage media, or Web page.

D. “Quality” is an encompassing term comprising utility, objectivity, and integrity.

E. “Utility” refers to the usefulness of the information to its intended users, including the public. When transparency of information is relevant for assessing the information's usefulness from the public's perspective, transparency is addressed to the extent practicable and appropriate in the Board's review of the information. There may be legal limitations, however, on the Board's ability to make publicly available the data or methods underlying a particular information dissemination product, and persons seeking access to such data or methods must comply with certain Board requirements and procedures for requesting such access.

F. “Objectivity” involves two distinct elements, presentation, and substance:

1. “Objectivity” includes whether disseminated information is being presented in an accurate, clear, complete, and unbiased manner, including whether the information is presented within a proper context and identifying the source of the disseminated information to the extent possible in light of confidentiality protections, if any. In a scientific, financial, or statistical context, the Board may make supporting data and models publicly available so the public can assess whether there may be reasons to question the objectivity of the sources. Where appropriate, data should have full, accurate, transparent documentation, and error sources affecting data quality should be identified and disclosed to users, subject to any applicable restrictions on disclosure.

2. “Objectivity” also involves a focus on ensuring accurate, reliable, and unbiased information. In a scientific, financial, or statistical context, original and supporting data are normally generated, and the analytic results are normally developed, using sound statistical and research methods.

3. To ensure “objectivity” in instances where the Board is responsible for disseminating “influential scientific, financial, or statistical information,” the Board shall ensure transparency of data and methods to facilitate the reproducibility of such information by qualified third parties, consistent with any applicable limitations on disclosure.

4. When relying upon third party information, the Board will notify the public if the disseminated information has not been reviewed by the Board, but that the third party attests that the quality of the information is consistent with the Data Quality Act and the OMB Guidelines;

G. “Integrity” refers to the security of information, i.e., protection of the information from unauthorized access or revision, to ensure that the information is not compromised through corruption or falsification.

H. “Influential,” when used in the phrase “influential scientific, financial, or statistical information,” means that the Board can reasonably determine that dissemination of information, prepared for public distribution, will have or does have a clear and substantial impact on important public policies or important private sector decisions. Whether a particular Board information dissemination product is “influential” will depend on the nature of the issues for which the Board is responsible and the relationship of the information dissemination product to those issues.

In non-rulemaking contexts, the Board will consider two factors—breadth and intensity—in determining whether information is influential.

The Board will consider whether the information affects a broad range of parties. Information that affects a broad, rather than narrow, range of parties is more likely to be influential. The Board will also consider the intensity of the information's impact. Information that has a modest impact on affected parties is less likely to be influential than information that can have a significant impact.

The definition applies to “information” itself, not to decisions that the information may support. Even if a decision or action by the Board is itself very important, a particular piece of information supporting it may or may not be “influential.”

I. “Reproducibility” means that the information is capable of being substantially reproduced, subject to an acceptable degree of imprecision. As provided in the OMB Guidelines, this standard does not apply to all agency information or data, but only to “influential scientific or statistical information,” if any, disseminated by DNFSB.

1. Original or supporting data: The Board may identify and/or limit the specific types of such data that can practicably be “reproduced,” given ethical, feasibility, or confidentiality constraints and, in doing so, may consult, as needed, with relevant scientific and technical communities. The Board shall assure reproducibility for those kinds of original and supporting data according to commonly accepted scientific, financial, or statistical standards.

2. Analytic results relating to original or supporting data: All analytic results shall undergo robustness checks through the Board's rigorous internal quality review process.

3. Analysis of risks to human health, safety, and the environment disseminated by the Board, if any: The Board will apply, as appropriate and feasible, the standards set forth in the Safe Drinking Water Act, 42 U.S.C. 300g-1(b)(3)(A), and when promulgating regulations the Board will apply, as appropriate and feasible, the standards set forth in the Safe Drinking Water Act, 42 U.S.C. 300g-1(b)(3)(B).

J. “Affected persons” are people who may benefit from or be harmed by the disseminated information.

II. Information Quality Principles

The following quality principles apply as a matter of policy to information disseminated by the Board:

A. Information that the Board prepares for public dissemination, including factual or statistical data, shall meet basic standards of quality, including objectivity, utility, and integrity.

B. The Board treats information quality as an integral part of achieving its performance goals and shall take appropriate steps to incorporate information quality criteria into information dissemination practices.

C. The specific quality standards that the Board adopts in a particular case shall be appropriate for the type of information being disseminated.

These Guidelines explain how the Board achieves information quality, objectivity, utility, and integrity. The Guidelines also describe the administrative mechanism by which affected persons may seek correction of Board disseminated information that they believe does not comply with Section 515, OMB Guidelines, or Board Guidelines.

III. Board's Role in Public Information Dissemination

Section 315 of the National Defense Authorization Act for Fiscal Year 2001, 42 U.S.C. Section 2286d requires the Board to:

(a) Public availability and comment.

Subject to subsections (g) and (h) and after receipt by the Secretary of Energy of any recommendations from the Board under Section 2286a of this title [Section 312 of the Atomic Energy Act], the Board promptly shall make such recommendations available to the public in the Department of Energy's regional public reading rooms and shall publish in the Federal Register such recommendations and a request for the submission to the Board of public comments on such recommendations. Interested persons shall have 30 days after the date of the publication of such notice in which to submit comments, data, views, or arguments to the Board concerning the recommendations.

(b) Response by Secretary.

(1) The Secretary of Energy shall transmit to the Board, in writing, a statement on whether the Secretary accepts or rejects, in whole or in part, the recommendations submitted to him by the Board under section 2286a of this title [Section 312 of the Atomic Energy Act], a description of the actions to be taken in response to the recommendations, and his views on such recommendations. The Secretary of Energy shall transmit his response to the Board within 45 days after the date of the publication, under Subsection (a), of the notice with respect to such recommendations or within such additional period, not to exceed 45 days, as the Board may grant.

(2) At the same time as the Secretary of Energy transmits his response to the Board under paragraph (1), the Secretary, subject to subsection (h), shall publish such response, together with a request for public comment on his response, in the Federal Register.

(3) Interested persons shall have 30 days after the date of the publication of the Secretary of Energy's response in which to submit comments, data, views, or arguments to the Board concerning the Secretary's response.

(4) The Board may hold hearings for the purpose of obtaining public comments on its recommendations and the Secretary of Energy's response.

(c) Provision of information to Secretary.

The Board shall furnish the Secretary of Energy with copies of all comments, data, views, and arguments submitted to it under subsection (a) or (b) of this section.

IV. The Board's Commitment to Quality Information Dissemination

In carrying out its functions, the Board strives to ensure that the information it prepares for public dissemination reflects a level of quality appropriate to the anticipated use of the information. The Board disseminates information consistent with applicable disclosure restrictions (e.g., classified information).

V. Pre-Dissemination Information Quality Review

The Board will review the quality (including objectivity, utility, and integrity) of information before it is disseminated and treat information quality as integral to every step of the Board's development of information, including creation, collection, maintenance, and dissemination.

When appropriate, the Board will demonstrate in its Paperwork Reduction Act clearance packages that each information collection will result in information that will be collected, maintained, and used in a way consistent with the OMB and Board information quality standards.

Internal agency review: The Board performs robust internal reviews to ensure information quality—including objectivity, utility, and integrity—before such information is disseminated.

1. Information disseminated to the public by the Board is normally subject to one or more levels of internal staff, supervisory, or Board review for quality before such information may be disseminated.

2. The number of levels of internal quality review applied in a particular case depends on the nature, scope, and purpose of the information to be disseminated.

Public comment: In rulemakings and certain other agency matters (e.g., Recommendations), information or data may also be subject to public comment. This public comment process provides an opportunity for interested parties, including persons who may be most affected by the dissemination, to corroborate or dispute the objectivity, utility, or integrity of the information or data. In these cases, the Board may provide public access to the underlying data or methods used by the Board (e.g., statistical models, assumptions), to the extent the Board deems relevant to information quality and consistent with controlling law.

VI. Development of Quality Information and Data

Information quality is integral to the development of information that will ultimately be disseminated, including its creation, collection, and maintenance. This process shall enable the Board to substantiate the quality of the information it has disseminated through documentation or other means appropriate to the information. The strategies that the Board employs to develop quality information and data include, for example:

A. Using a variety of methods and sources to solicit relevant and reliable information, such as:

1. Voluntary and compulsory methods;

2. invitations for public comment;

3. public hearings; and

4. meetings with public groups, labor representatives and organizations, and industry and professional groups.

B. Soliciting public comment specifically on paperwork burden estimates of information collection activities sponsored by the Board and subject to the Paperwork Reduction Act, if applicable.

C. Conducting independent legal, economic, or statistical research as the Board deems appropriate, using an array of government and private commercial and non-profit databases, agency surveys and questionnaires, etc.

VII. Transparency of Underlying Data and Methods

Consistent with applicable laws, regulations, orders, and policies, the Board shall make underlying data and methods (e.g., sources and assumptions) used for “influential scientific or statistical information” available to the public as is appropriate. OMB Guidelines, para. V.3.b.ii.

Where public access to “influential scientific or statistical” data and methods will not occur due to other compelling interests, the Board shall apply rigorous checks to analytic results and document what checks were undertaken. The types of these checks, and the level of detail for documentation thereof, shall depend on the nature of the issues for which the Board is responsible. OMB Guidelines, para. V.3.b.ii.B.ii.

To the extent that underlying data or methods are not part of the Board's public record or otherwise published or publicly available, persons seeking access to such data or methods are required to follow applicable Board requirements and procedures for seeking such access. In all cases, the interest in the transparency of the Board's data and methods shall not override other compelling interests such as national security, privacy, trade secrets, intellectual property, and other confidentiality protections. OMB Guidelines, para. V.b.3.ii.B.i.

VIII. Integrity of Board Information and Data

To preserve the integrity of information and data that the Board may ultimately disseminate, the Board takes appropriate measures to ensure that the security of information and data is not compromised while it is being collected, maintained, or used by the agency. OMB Guidelines, para. V.4. These measures are intended to be consistent with legal requirements such as the Computer Security Act, 40 U.S.C. 759; the Government Information Security Reform Act, 44 U.S.C. 3531, et seq.; the Privacy Act, 5 U.S.C. 552a; and any other applicable laws, regulations, orders, agreements, or guidance.

These measures extend to Board contractors, consultants, experts or others to the extent such information or data are shared with them on a non-public basis.

IX. Documentation

When necessary or appropriate, the Board substantiates the quality of the information it has disseminated through documentation or other means appropriate to the information. OMB Guidelines, para. III.2.

With respect to pre-dissemination review, this documentation may include intra-or inter-agency memoranda or communications, or other records or materials, including, where applicable, underlying data or methods, demonstrating that the information has been reviewed internally by appropriate agency staff or officials before it is disseminated to the public.

As provided in the OMB Guidelines, the Board will submit a report to OMB describing the number, nature, and resolution of information correction requests by each January 1, beginning in 2004.

X. Administrative Mechanism for Seeking Correction of Information

The Board shall provide and maintain a mechanism in compliance with the OMB Guidelines by which affected persons may seek timely correction of information maintained and disseminated by the Board. See Appendix A for details.

XI. Compliance, Reporting, and Effective Date

The Board's Chief Information Officer, or other designated Board official, shall be responsible for agency compliance with these Guidelines.

The Board shall respond to complaints in a manner appropriate to the nature and extent of the complaint. Examples of appropriate responses include personal contacts via letter or telephone, form letters, press releases, or mass mailings that correct a widely disseminated error or address a frequently raised complaint.

The Board shall submit (and, when required, post on its Web site, publish in the Federal Register, or otherwise make available) all reports, or notice thereof, required by Section 515 and the OMB Guidelines. Such reports shall include an annual fiscal year report submitted to the Director of OMB on the number and nature of complaints, if any, received by the Board regarding agency compliance with the OMB Guidelines and how the agency resolved such complaints. This annual report is to be submitted no later than January 1 following the end of the relevant fiscal year, with the first report due January 1, 2004.

Effective Date: Pursuant to Section 515 and paragraph III.4. of the OMB Guidelines, these Board Guidelines shall become effective October 1, 2002. The fact that an information product disseminated by DNFSB before this date is still maintained by the DNFSB (e.g., DNFSB files, publications available on the Web site) does not make the information subject to these Guidelines or to the request for correction process. If a particular distribution of information is not covered by these Guidelines, the Guidelines may still apply to a subsequent distribution of the information in which the Board adopts, endorses, or uses the information to formulate or support a regulation, guidance, or other Agency decision or position.

A. To the extent these Guidelines prescribe procedures for the pre-dissemination quality review of Board information, such procedures shall apply only to information that the Board first disseminates on or after that date.

B. The Guidelines do not apply to outdated or superseded Board information that is provided as background information but no longer reflects Board policy or influences Board decisions.

C. To the extent these Guidelines prescribe a Board administrative mechanism for affected persons to seek correction of information disseminated by the Board, that mechanism shall apply only to information that the Board disseminates on or after that date, regardless of when the Board first disseminated the information.

Appendix A—Administrative Correction Mechanism

The Defense Nuclear Facilities Safety Board (DNFSB, Board) strives to ensure that the information it disseminates to the public is of the highest quality, objectivity, utility, and integrity. To this end, the Office of Management and Budget (OMB) and the DNFSB have issued Guidelines for ensuring and maximizing the quality of information disseminated by the DNFSB, and in accordance with section 515 of the Treasury and General Government Appropriations Act for Fiscal Year 2001, Pub. L. 106-554 (section 515). You may view these Guidelines through the following Web link: www.dnfsb.gov. Persons affected by non-exempted Board information disseminated on or after October 1, 2002, may request that the Board correct allegedly incorrect information.

How To Seek Correction of Board Information Dissemination Products

If you are seeking to obtain correction of information disseminated by the Board on or after October 1, 2002, because you believe the information does not comply with the information quality Guidelines issued by OMB or the DNFSB, please submit your request, with the subject “Section 515 Request,” by e-mail to: mailbox@dnfsb.gov.

If you send us an e-mail, you should know that e-mail is not necessarily secure against interception before it reaches the Board's e-mail system. Therefore, you may prefer instead to deliver or mail your Section 515 request to the following address: Chief Information Officer, C/O Defense Nuclear Facilities Safety Board, 625 Indiana Avenue, NW., Suite 700, Washington, DC 20004.

Whichever method you use, your request should specifically:

• Identify the information you believe does not comply with the OMB or Board Data Quality Guidelines;

• Explain why you believe the information should be corrected. If possible, provide specific recommendations for how the information should be corrected; and

• Describe how you are affected by the alleged information error.

Requests for correction that are specific and provide evidence to support the need for correction will enable a timely response.

Requesters should be aware that they bear the “burden of proof” with respect to the necessity for correction as well as with respect to the type of correction sought.

To learn how we may disclose any information that you provide, please read our Privacy Policy at www.dnfsb.gov/privacy.htm.

To submit a correction request through this process, you must be an “affected person” (i.e., someone who may benefit from or be harmed by the disseminated information) and your request must relate to “information” that is “disseminated” by the Board within the meaning of the Board Guidelines.

You may not use these procedures to request correction of matters which are not “dissemination” of information as outlined in Section I.B. of the Board's Guidelines.

How We Will Handle Your Section 515 Request?

Processing Your Initial Request

Once the appropriate Board staff member has received your request, the Board will provide an initial response to your request within 60 days, excluding weekends and Federal holidays. If the Board is unable to provide an initial response within the 60-day period, the Board will notify you of the estimated date for an initial response.

Delay in the Board's response may be required if you modify your original request, if we need to clarify your request, or if we need to consult with other offices or agencies that may have an interest in the matter, although the Board shall be solely responsible for determining how to respond to your request.

Initial Board Response

The Board's initial response will either grant or deny your request, in whole or part, and make appropriate corrections, if any. If your request relates to information in which there is an opportunity for public comment (e.g., Recommendations), you may be required to seek correction of the information through public comment, and your request will be referred to the responsible Board staff for consideration and incorporation into the record of the relevant proceeding. When appropriate, in lieu of an individualized response to your request, the Board may issue or provide you a form letter, press release, or mass mailing that corrects a widely disseminated error or that addresses a frequently raised complaint. Responses may also be posted on the Board's Web site.

In all cases, the correction process shall serve to address the genuine and valid needs of the Board and its constituents without disrupting Board processes. The Board may reject claims that are made in bad faith, without justification, unlikely to have substantial future impact (e.g., harmless error), frivolous, or speculative. The Board shall undertake only the degree of correction that the Board concludes is appropriate for the nature of the information involved. In making this determination, the Board will consider such factors as the significance of the error on the use of the information, the magnitude of the error, and the cost of undertaking a correction. The Board will also consider the error's relationship to Board priorities. The Board is not required to change, or in an way alter, the content or status of information simply based on the receipt of a request for correction. The Board need not respond substantively to frivolous or repetitive requests for correction. Furthermore, the Board may not respond to requests that concern information not covered by the Guidelines or from a person whom the information does not affect.

Seeking Reconsideration of the Initial Response

If you disagree with the Board's initial response, you will have 30 days, excluding weekends and Federal holidays, to appeal (i.e., file for reconsideration within the agency). The Board will provide a response to your request for reconsideration within 60 days, excluding weekends and Federal holidays, unless it notifies you of a later date and explains the reason(s) for the delay. The official conducting the second level of review shall not be the same official that responded to the initial request for correction or that prepared the subject information.

If the Board agrees with the appeal, it will also take steps to notify the public of its decision.

Certain disseminations of information include a comprehensive public comment process (e.g., Recommendations, notices of proposed rulemaking, regulatory analyses, and requests for comment on an information collection subject to the Paperwork Reduction Act). The administrative correction mechanism described in these Guidelines does not apply to dissemination of such a document. Persons questioning information disseminated in such a document must submit comments as directed in that document.

When engaged in rulemaking, the Board will utilize the notice and comment process required by the Administrative Procedure Act. This process will satisfy the Section 515 administrative correction mechanism requirement. Affected persons must address any correction requests through the rulemaking comment process. Correction requests made through the Section 515 mechanism will not be considered. Information or studies relied upon and cited in rulemaking will be addressed through the rulemaking notice and comment process.

If there is an existing process for reconsideration of a particular sort of information dissemination by the DNFSB, DNFSB will make use of that process.

The Guidelines are not intended to and do not provide any right to judicial review.

Availability of Section 515 Reports

No later than each January 1, beginning in 2004, the agency is required to submit an annual fiscal year report to the OMB Director on the number and nature of Section 515 correction requests received by the Board and how the agency resolved those requests. Copies of these reports will be made publicly available through the Board's Web page.

John T. Conway,
Chairman.

[FR Doc. 02-23609 Filed 9-16-02; 8:45 am]

BILLING CODE 3670-01-P